DEPARTMENT OF TRANSPORTATION

Federal Aviation Administration

Aviation Rulemaking Advisory Committee Meeting on Emergency Evacuation Issues

AGENCY: Federal Aviation Administration (FA), DOT.

ACTION: Notice of public meeting.

SUMMARY: This notice announces a public meeting of the FAA's Aviation Rulemaking Advisory Committee (ARAC) to discuss emergency evacuation (EE) issues.

DATES: The meeting is scheduled for June 29, 2000, beginning at 8:30 a.m. Arrange for oral presentations by June 22.

ADDRESSES: Boeing Commercial Airplane Group, 535 Garden Avenue, N., Building 10-16, Renton, WA.

FOR FURTHER INFORMATION CONTACT: Effie M. Upshaw, Office of Rulemaking, ARM-209, FAA, 800 Independence Avenue, SW., Washington, DC 20591, Telephone (202) 267-7626, FAX (202) 267-5075, or e-mail at effie.upshaw@faa.gov.

SUPPLEMENTARY INFORMATION: Pursuant to section 10(a)(2) of the Federal Advisory Committee Act (Pub. L. 92-463; 5 U.S.C. app. III), notice is given of an ARAC meeting to be held June 29 in Renton, WA.

The agenda will include:

• Opening Remarks.

• FAA Report.

• Joint Aviation Authorities Report.

• Cabin Safety Harmonization Working Group Report.

• Performance Standards Working Group Report.

• Emergency Evacuation Charter Update Proposal.

Attendance is open to the public, but will be limited to the space available. Visitor badges are required to gain entrance to the building in which the meeting is being held. Please confirm your attendance with Norm Turner, (425) 234-3312, or by e-mail, norman.g.turner@Boeing.com. Please provide the following information: Full legal name, country of citizenship, and name of your company, if applicable.

The public must make arrangements by June 22 to present oral statements at the meeting. Written statements may be presented to the committee at any time by providing 25 copies to the Assistant Executive Director for Emergency Evacuation issues or by providing copies at the meeting. Copies of the documents to be voted upon may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC on June 8, 2000.
Florence L. Hamn,
Acting Director, Office of Rulemaking.

[FR Doc. 00-14912 Filed 6-13-00; 8:45 am]

BILLING CODE 4910-13-M